DEPARTMENT OF ENERGY

Federal Energy Regulatory Commission

[Project No. 14979-001]

Lock+TM Hydro Friends Fund XXVII, LLC; Notice of Surrender of Preliminary Permit

Take notice that Lock+TM Hydro Friends Fund XXVII, LLC, permittee for the proposed Cowanesque Dam Hydropower Project, has requested that its preliminary permit be terminated. The permit was issued on January 2, 2020 and would have expired on December 31, 2023.¹ The project would have been located at the U.S. Army Corps of Engineers' (Corps) Cowanesque Dam on the Cowanesque River in Tioga County, Pennsylvania.

¹ 170 FERC ¶ 62,002 (2020).

The preliminary permit for Project No. 14979 will remain in effect until the close of business, December 9, 2022. But, if the Commission is closed on this day, then the permit remains in effect until the close of business on the next day in which the Commission is open.² New applications for this site may not be submitted until after the permit surrender is effective.

² 18 CFR 385.2007(a)(2) (2021).

Dated: November 9, 2022.
Debbie-Anne A. Reese,
Deputy Secretary.

[FR Doc. 2022-24931 Filed 11-15-22; 8:45 am]

BILLING CODE 6717-01-P